DEPARTMENT OF TRANSPORTATION

Research and Special Programs Administration

[Docket No. RSPA-2002-11270, Notice No. 02-07]

Safety Advisory: Retesting of Cylinders Without Calibration of Test Equipment

AGENCY: Research and Special Programs Administration (RSPA), DOT.

ACTION: Safety advisory notice.

SUMMARY: This is to notify the public that RSPA is investigating BKC Industries, Inc., 2117 Will Suitt Road, Creedmoor, NC 27522 for the marking of DOT cylinders and/or tube trailers without calibrating its test apparatus. RSPA has determined that, between September of 1998 and October of 2001, BKC Industries, Inc. (BKC) apparently marked and certified an undetermined number of cylinders and/or tube trailers as having been properly tested in accordance with the Hazardous Materials Regulations (HMR), when the cylinders and/or tube trailers were tested using equipment that was not properly calibrated.

Part of performing a proper hydrostatic retest as set forth in the HMR is the calibration process. A hydrostatic retest and visual inspection, conducted as prescribed in the HMR, are used to verify the structural integrity of a cylinder. If the hydrostatic retest and visual inspection are not performed in accordance with the HMR, a cylinder with compromised structural integrity may be returned to service when it should be condemned. Extensive property damage, serious personal injury, or death could result from rupture of a cylinder. Cylinders that have not been retested in accordance with the HMR may not be charged or filled with compressed gas or other hazardous materials.

FOR FURTHER INFORMATION CONTACT: Terrell Hinds, Hazardous Materials Enforcement Specialist, Office of Hazardous Materials Enforcement, Research and Special Programs Administration, U.S. Department of Transportation, 1701 Columbia Avenue, Suite 520, College Park, GA 30337, Telephone: (404) 305-6120, Fax: (404) 305-6125.

SUPPLEMENTARY INFORMATION: Through its inspection of BKC, RSPA has determined that BKC apparently marked an undetermined number of cylinders as having been properly tested in accordance with the HMR, when the test apparatus was not calibrated properly. During the inspection, RSPA discovered that the test cylinder that appeared on BKC Industries' test reports was not physically in the BKC facility. Therefore, this cylinder could not have been used to calibrate the test equipment.

The cylinders in question are stamped with the following RIN: D236. The marking appears in the following pattern:

D2
M Y
63

M is the month of retest (e.g. 08), and y is the year of retest (e.g. 01).

Anyone who has a cylinder or tube trailer that has been serviced by BKC Industries, Inc. and that is marked with RIN D236 and stamped with a retest date between August 1998 and October 2001 should consider the cylinder unsafe and not fill the cylinder unless the cylinder is first properly retested by a DOT-authorized retest facility. Filled cylinders should be vented or otherwise safely discharged, and then taken to a DOT-authorized cylinder retest facility for proper retest to determine compliance with the HMR and their suitability for continuing service. Under no circumstances should a cylinder and/or tube trailer described in this safety advisory be filled, refilled or used for its intended purpose until it is reinspected and retested by a DOT-authorized retest facility.

It is further recommended that persons finding or possessing a cylinder and or tube/trailer described in this safety advisory contact Mr. Hinds for additional information.

Issued in Washington, DC, on July 2, 2002.
Robert A. McGuire,
Associate Administrator for Hazardous Material Safety.

[FR Doc. 02-17093 Filed 7-8-02; 8:45 am]

BILLING CODE 4910-60-P